DEPARTMENT OF TRANSPORTATION

Office of the Secretary

Aviation Proceedings, Agreements Filed During the Week Ending June 7, 2002

The following Agreements were filed with the Department of Transportation under the provisions of 49 U.S.C. 412 and 414. Answers may be filed within 21 days after the filing of the application.

Docket Number: OST-2002-12464.

Date Filed: June 7, 2002.

Parties: Members of the International Air Transport Association.

Subject:

CTC COMP 0392 dated 7 June 2002 (r1-r10),

Expedited Composite Resolutions,

Extract of Minutes attached,

Intended effective date: 1 September 2002.

Dorothy Y. Beard,
Federal Register Liaison.

[FR Doc. 02-15500 Filed 6-19-02; 8:45 am]

BILLING CODE 4910-62-P